DEPARTMENT OF ENERGY

Federal Energy Regulatory Commission

[Project No. 14634-006]

New England Hydropower Company, LLC; Notice of Intent To File License Application, Filing of Pre-Application Document, and Approving Use of the Traditional Licensing Process

a. Type of Filing: Notice of Intent to File License Application and Request to Use the Traditional Licensing Process.

b. Project No.: 14634-006.

c. Date Filed: January 17, 2023.

d. Submitted By: New England Hydropower Company, LLC (NEHC).

e. Name of Project: Ashton Dam Hydroelectric Project (project).

f. Location: On the Blackstone River in Providence County, Rhode Island. No federal lands are occupied by the project works or located within the project boundary.

g. Filed Pursuant To: 18 CFR 5.3 and 5.5 of the Commission's regulations.

h. Potential Applicant Contact: Ms. Carol Wasserman, New England Hydropower Company, LLC, 100 Cummings Center, Suite 451C, Beverly, MA 01915; Phone at (339) 293-3157, or email at carol@nehydropower.com.

i. FERC Contact: Arash Barsari at (202) 502-6207; or email at Arash.JalaliBarsari@ferc.gov.

j. NEHC filed its request to use the Traditional Licensing Process on January 17, 2023, and provided public notice of its request on January 19, 2023 and January 26, 2023. In a letter dated March 2, 2023, the Director of the Division of Hydropower Licensing approved NEHC's request to use the Traditional Licensing Process.

k. With this notice, we are initiating informal consultation with the U.S. Fish and Wildlife Service and NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the Rhode Island State Historic Preservation Officer, as required by section 106 of the National Historic Preservation Act, and the implementing regulations of the Advisory Council on Historic Preservation at 36 CFR 800.2.

l. With this notice, we are designating NEHC as the Commission's non-federal representative for carrying out informal consultation pursuant to section 7 of the Endangered Species Act and consultation pursuant to section 106 of the National Historic Preservation Act.

m. On January 17, 2023, NEHC filed a Pre-Application Document (PAD; including a proposed process plan and schedule) with the Commission, pursuant to 18 CFR 5.6 of the Commission's regulations.

n. A copy of the PAD may be viewed and/or printed on the Commission's website (http://www.ferc.gov), using the “eLibrary” link. Enter the docket number, excluding the last three digits in the docket number field to access the document. For assistance, contact FERC Online Support at FERCOnlineSupport@ferc.gov, (866) 208-3676 (toll free), or (202) 502-8659 (TTY). At this time, the Commission has suspended access to the Commission's Public Reference Room due to the proclamation declaring a National Emergency concerning the Novel Coronavirus Disease (COVID-19), issued by the President on March 13, 2020.

o. The applicant states its unequivocal intent to submit an application for an original license for Project No. 14634.

p. Register online at https://ferconline.ferc.gov/FERCOnline.aspx to be notified via email of new filings and issuances related to this or other pending projects. For assistance, contact FERC Online Support.

Dated: April 3, 2023.
Kimberly D. Bose,
Secretary.

[FR Doc. 2023-07386 Filed 4-6-23; 8:45 am]

BILLING CODE 6717-01-P